DEPARTMENT OF TRANSPORTATION

Federal Railroad Administration

Petition for Waiver of Compliance

In accordance with part 211 of Title 49 Code of Federal Regulations (CFR), notice is hereby given that the Federal Railroad Administration (FRA) received a request for a waiver of compliance with certain requirements of its safety standards. The individual petition is described below, including the party seeking relief, the regulatory provisions involved, the nature of the relief being requested, and the petitioners' arguments in favor of relief.

Minnesota Northern Railroad and St. Croix Valley Railroad (Docket Number FRA-2000-8368)

The Minnesota Northern Railroad and St. Croix Valley Railroad have petitioned for a permanent waiver of compliance for one locomotive, ILSX 904, from the requirements of Safety Glazing Standards, 49 CFR Part 223, which requires certified glazing.

This locomotive is intended for primary use on the St. Croix Valley Railroad in and near Hinkley, Minnesota. The St. Croix Valley Railroad operates in East Central Minnesota, the location of the railroad is largely rural, approximately 50% cultivated farm land and 50% wooded.

Interested parties are invited to participated in these proceedings by submitting written views, data, or comments. FRA does not anticipate scheduling a public hearing in connection with these proceedings since the facts do not appear to warrant a hearing. If any interested party desires an opportunity for oral comment, they should notify FRA in writing, before the end of the comment period and specify the basis for their request.

All communications concerning these proceedings should identify the appropriate docket number (e.g., Waiver Petition Docket Number FRA-2000-8368) and must be submitted to the Docket Clerk, DOT Central Docket Management Facility, Room P1-401, Washington, DC 20590-0001. Communications received within 45 days of the date of this notice will be considered by FRA before final action is taken. Comments received after that date will be considered as far as practicable. All written communication concerning these proceedings are available for examination during regular business hours (9 a.m.-5 p.m.) at DOT Central Docket Management Facility, Room P1-401 (Plaza Level), 400 7th Street, SW., Washington, DC. All documents in the public docket are available for inspection and copying on the internet at the docket facility's WEB site at http://dms.dot.gov.

Issued in Washington, DC on March 12, 2001.
Grady C. Cothen, Jr.,
Deputy Associate Administrator for Safety Standards and Program Development.

[FR Doc. 01-6733 Filed 3-16-01; 8:45 am]

BILLING CODE 4910-06-P